DEPARTMENT OF TRANSPORTATION

Office of the Secretary

Notice of Applications for Certificates of Public Convenience and Necessity and Foreign Air Carrier Permits Filed Under Subpart B (formerly Subpart Q) during the Week Ending April 20, 2001

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: OST-2001-9455.

Date Filed: April 17, 2001.

Due Date for Answers, Conforming Applications, or Motion to Modify Scope: May 8, 2001.

Description: Application of Kuwait Airways Corporation, pursuant to Section 402(c), 14 CFR Parts 211 and 377, and Subpart B, requesting renewal of its foreign air carrier permit, authorizing Kuwait Airways to engage in scheduled air transportation and charter operations of persons, property and mail between the State of Kuwait and the United States.

Docket Number: OST-2001-9484.

Date Filed: April 19, 2001.

Due Date for Answers, Conforming Applications, or Motion to Modify Scope: May 10, 2001.

Description: Application of Singapore Airlines Cargo PTE Limited, pursuant to 49 U.S.C. Section 41301 and Subpart B, requesting a foreign air carrier permit to provide scheduled and nonscheduled foreign air transportation of property and mail on any and all routes authorized pursuant to the April 8, 1997, Air Transportation Service Agreement between the Government of the United States and the Government of the Republic of Singapore on the following routes: from points behind Singapore via Singapore and intermediate points to a point or points in the United States and beyond, and between the United States and any point or points.

Dorothy Y. Beard,
Federal Register Liaison.

[FR Doc. 01-10967 Filed 5-1-01; 8:45 am]

BILLING CODE 4910-62-P